OFFICE OF THE UNITED STATES TRADE REPRESENTATIVE

Generalized System of Preferences (GSP): Notice Regarding the Acceptance of Petitions To Grant a Competitive Need Limitation (CNL) Waiver

AGENCY: Office of the United States Trade Representative.

ACTION: Solicitation of comments and notice of public hearing.

SUMMARY: The Office of the United States Trade Representative (USTR) has received petitions in connection with the 2009 GSP Annual Review to waive the competitive need limitations (CNLs) on imports of certain products that are eligible for duty-free treatment under the GSP program. USTR also has received petitions to determine that certain products were not produced in the United States as of January 1, 1995. This notice announces those petitions that have been accepted for further review. All other petitions have been rejected. This notice also sets forth the schedule for submitting comments and the public hearing on the petitions, filing requests to participate in the hearing, submitting pre-hearing and post-hearing briefs, and commenting on the U.S. International Trade Commission (USITC) report on probable economic effects. The list of petitions for CNL waivers and petitions for determinations that products were not produced in the United States that were submitted for review is available at: http://www.ustr.gov/trade-topics/trade-development/preference-programs/generalized-system-preference-gsp/current-review-1.

FOR FURTHER INFORMATION CONTACT: Tameka Cooper, GSP Program, Office of the United States Trade Representative, 1724 F Street, NW., Washington, DC 20508. The telephone number is (202) 395-6971, the fax number is (202) 395-2961, and the e-mail address is Tameka_Cooper@ustr.eop.gov.

DATES: The GSP regulations (15 CFR part 2007) provide the schedule of dates for conducting an annual review unless otherwise specified in a notice in the Federal Register. The current schedule with respect to the review of the accepted CNL waiver petitions is set forth below. Notice of any other changes will be given in the Federal Register.

January 21, 2010—Pre-hearing briefs and comments, requests to testify at the GSP Subcommittee Public Hearing, and hearing statements must be submitted by 5 p.m.

February 11, 2010—GSP Subcommittee Public Hearing on the CNL waiver petitions accepted for the 2009 GSP Annual Review in Rooms 1 and 2, 1724 F St., NW., Washington, DC 20508, beginning at 9:30 a.m.

March 4, 2010—Post-hearing briefs and comments must be submitted by 5 p.m.

April 2010—USITC scheduled to publish its report on the product for which CNL waiver petitions have been accepted for inclusion in the 2009 GSP Annual Review (case 2009-08). Comments on the USITC's report on this product are due 10 calendar days after the publication date of the USITC report.

June 30, 2010—Modifications to the list of articles eligible for duty-free treatment under the GSP resulting from the 2009 Annual Review will be announced on or about June 30, 2010, and any changes will be effective as of the date announced.

SUPPLEMENTARY INFORMATION: The GSP program provides for the duty-free importation of eligible articles when imported from designated beneficiary developing countries. The GSP program is authorized by Title V of the Trade Act of 1974 (19 U.S.C. 2461, et seq.), as amended (the “1974 Act' ”), and is implemented in accordance with Executive Order 11888 of November 24, 1975, as modified by subsequent Executive Orders and Presidential Proclamations.

In Federal Register notices dated May 28, 2009, and November 3, 2009, USTR announced that the deadline for the filing of petitions requesting CNLs and determinations that products were not produced in the United States for the 2009 GSP Annual Review was November 17, 2009 (74 FR 25605 and 74 FR 56908). The GSP Subcommittee of the Trade Policy Staff Committee (TPSC) has reviewed the petitions and is accepting for review petitions for a CNL waiver with respect to new pneumatic radial tires, of rubber, of a kind used on motor cars (including station wagons and racing cars) from Thailand (HTS4011.10.10).

Additional information regarding the petitions with respect to this article is provided in the “List of CNL Waiver Submissions Accepted in the 2009 GSP Annual Review” that is posted on the USTR web site. Acceptance of a petition for review does not indicate any opinion with respect to the disposition on the merits of the petition. Acceptance indicates only that the listed petitions have been found eligible for review and that such review will take place.

Notice of Public Hearing

The GSP Subcommittee of the TPSC will hold a hearing on February 11, 2010, on the CNL waiver product petitions accepted for the 2009 GSP Annual Review, beginning at 9:30 a.m. at the Office of the U.S. Trade Representative, Rooms 1 and 2, 1724 F Street, NW., Washington, DC 20508. The hearing will be open to the public, and a transcript of the hearing will be subsequently available on http://www.regulations.gov. No electronic media coverage of the public hearing will be allowed.

Submission of Requests To Testify at the Public Hearing and Hearing Statements

All interested parties wishing to testify at the hearing must submit, by 5 p.m., January 21, 2010, a “Notice of Intent to Testify” and “Hearing Statement” to http://www.regulations.gov (following the procedures indicated in “Requirements for Submissions”), the witness' or witnesses' name, address, telephone number, fax number, e-mail address, pertinent Case Number and eight-digit HTSUS subheading number. Oral testimony by each panel before the GSP Subcommittee will be limited to one five-minute presentation in English. If those testifying intend to submit a longer “Hearing Statement” for the record, it must be in English and accompany the “Notice of Intent to Testify”.

Opportunities for Public Comment and Inspection of Comments

In addition to holding a public hearing, the GSP Subcommittee of the TPSC invites briefs and comments in support of or in opposition to the CNL waiver petitions that have been accepted for the 2009 GSP Annual Review. Parties not wishing to appear at the public hearing, but wishing to submit pre-hearing briefs or statements, in English, must do so by 5 p.m., January 21, 2010. Post-hearing briefs or statements will be accepted if they conform with the “Requirements for Submissions” cited below and are submitted, in English, by 5 p.m., March 4, 2010.

In accordance with sections 503(d)(1)(A) of the 1974 Act and the authority delegated by the President, pursuant to section 332(g) of the Tariff Act of 1930, the U.S. Trade Representative has requested that the USITC provide its advice on the probable economic effect on U.S. industries producing like or directly competitive articles and on consumers of the waiver of the CNL for the specified GSP beneficiary country, with respect to the article that is specified in the “List of CNL Waiver Submissions Accepted in the 2009 GSP Annual Review.” Comments by interested persons on the USITC Report prepared as part of the product review should be submitted by 5 p.m., 10 calendar days after the date the publication date of the USITC's report. These submissions are to be submitted using http://www.regulations.gov in accordance with “Requirements for Submissions.”

Submissions should comply with 15 CFR part 2007, except as modified below. All submissions should identify the subject article in terms of the case number and eight digit HTSUS subheading number, if applicable, as shown in the “List of CNL Waiver Submissions Accepted in the 2009 GSP Annual Review” available at: http://www.ustr.gov/trade-topics/trade-development/preference-programs/generalized-system-preference-gsp/current-review-1.

Requirements for Submissions

Submissions in response to this notice (including requests to testify, written comments, and pre-hearing and post-hearing briefs, and all business confidential submissions), must be submitted electronically by the relevant deadline listed above using http://www.regulations.gov, docket number USTR-2009-0037. Instructions for submitting business confidential versions are provided below. Hand-delivered submissions will not be accepted. Submissions must be submitted in English to the Chairman of the GSP Subcommittee, Trade Policy Staff Committee, by the applicable deadlines set forth in this notice.

To make a submission using http://www.regulations.gov, enter docket number USTR-2009-0037 on the home page and click “Search.” The site will provide a search-results page listing all documents associated with this docket. Locate the reference to this notice by selecting “Notices” under “Document Type”. Locate the reference to this notice by selecting “Notices” under “Document Type” on the left side of the search-results page, and click on the link entitled “Submit a Comment”. (For further information on using the http://www.regulations.gov Web site, please consult the resources provided on the website by clicking “How to Use This Site” on the left side of the home page.)

The http://www.regulations.gov Web site offers the option of providing comments by filling in a “Type Comment and Upload File” field or by attaching a document. It is expected that most comments will be provided in an attached document. If a document is attached, it is sufficient to type “See attached” in the “Type Comment and Upload File” field.

Comments must be in English, with the total submission not to exceed 30 single-spaced standard letter-size pages in 12-point type, including attachments. Any data attachments to the submission should be included in the same file as the submission itself, and not as separate files.

Any person or party making a submission is strongly advised to review the GSP regulations and GSP Guidebook (available at: http://www.ustr.gov/trade-topics/trade-development/preference-programs/generalized-system-preference-gsp/gsp-program-inf).

Business Confidential Submissions

A person requesting that information contained in a comment submitted by that person be treated as confidential business information must certify that such information is business confidential and would not customarily be released to the public by the submitter. Confidential business information must be clearly designated as such, the submission must be marked “BUSINESS CONFIDENTIAL” at the top and bottom of the cover page and each succeeding page, and the submission should indicate, via brackets, the specific information that is confidential. Additionally, “Business Confidential” should be included in the “Type comment & Upload file” field. Anyone submitting a comment containing business confidential information must also submit as a separate submission a non-confidential version of the confidential submission, indicating where confidential information has been redacted. The non-confidential summary will be placed in the docket and open to public inspection.

Carmen Suro-Bredie,
Assistant U.S. Trade Representative for Policy Coordination, Office of the U.S. Trade Representative.

[FR Doc. E9-31378 Filed 1-4-10; 8:45 am]

BILLING CODE 3190-W0-P